DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-035. Applicant: Villanova University, 800 Lancaster Avenue, Villanova, PA 19085. Instrument: fNOX500 Fast CLD System for NO analysis. Manufacturer: Cambustion Ltd, United Kingdom. Intended Use: The instrument is intended to be used to study the dynamic response of automotive exhaust after-treatment systems. Also, the instrument will be used on a variety of projects related to the dynamics measurement, modeling, diagnosis and control of exhaust after-treatment systems. Application accepted by Commissioner of Customs: July 11, 2003.

Docket Number: 03-36. Applicant: University of Wisconsin, Wisconsin Veterinary Diagnostic Laboratory, 6101 Mineral Point Road, Madison, WI 53705-4494. Instrument: Electron Microscope, Model H-7600. Manufacturer: Hitachi High-Technologies Corporation, Japan. Intended Use: The instrument is intended to be used to identify viruses in fecal and intestinal samples for diagnosis of diseases in animals and in some cases, humans. It will also provide fast turnaround of samples and the ability to identify potential biological hazardous agents for homeland security. Application accepted by Commissioner of Customs: July 22, 2003.

Docket Number: 03-037. Applicant: University of Chicago, 933 East 56th Street, Chicago, IL 60637. Instrument: (19) each Pattern Trigger Modules. Manufacturer: Hytec Electronics Ltd, United Kingdom. Intended Use: The devices form part of the VERITAS gamma-ray camera, an astronomical observatory to be built in Arizona, which will be used for the study of extreme astrophysical processes in the universe. The telescope detects small light flashes in the atmosphere produced by incoming gamma rays from space. Light flashes are detected by a three-level trigger system run by an assembly of processors and components. The pattern trigger modules are the second level of the trigger. They recognize patterns of light emission on the sky. Application accepted by Commissioner of Customs: July 24, 2003.

Docket Number: 03-038. Applicant: University of Michigan, Transportation Research Institute, 2901 Baxter Road, Ann Arbor, MI 48109-2150. Instrument: Eye Fixation System, Model faceLAB 3.0. Manufacturer: Seeing Machines, Australia. Intended Use: The instrument is intended to be used to study driver glance behavior while using in-vehicle devices such as cell phones and navigation systems. It records where drivers look on a moment to moment basis, providing digitized coordinates from the head position, head orientation, and direction of gaze in real time. The results provide a basis for design guidelines (Federal, industry, and from consensus standard organization) for the safety and usability of products, as well as information related to licensing, hours of service and other topics. Application accepted by Commissioner of Customs: July 31, 2003.

Docket Number: 03-039. Applicant: University of Texas, Health Science Center, 6431 Fannin, Houston, TX 77030. Instrument: Electron Microscope, Model Tecnai G² Polara. Manufacturer: FEI Company, The Netherlands. Intended Use: The instrument is intended to be used to augment on-going three-dimensional structural studies of a broad range of macromolecules of biological interest at the recently established Structural Biology Center. Biological structures include the human pyruvate dehydrogenase, human α-macroglobulin, CaM kinase II, virus capsids, HR-S, and the ion transport complex by microbial rhodopsins which offers a source of data for developing and refining the methodology of high resolution electron microscopy. Application accepted by Commissioner of Customs: July 31, 2003.

Docket Number: 03-040. Applicant: Georgetown University, Department of Cell Biology, SW., 207 Med/Dent Building, 3900 Reservoir Road, NW., Washington, DC 20007. Instrument: Electron Microscope, Model H-7600-1. Manufacturer: Hitachi High-Technologies Corporation, Japan. Intended Use: The instrument is intended to be used in research to better understand the etiology of human disease and to search for cures. Experiments will include examination of the following: (1) The prostate in normal and cancerous stages, (2) the breast in normal and cancerous stages, (3) stem cells in the testis and in the brain and (4) the effect of diet on kidney transplantation. Application accepted by Commissioner of Customs: August 1, 2003.

Gerald A. Zerdy,
Program Manager, Statutory Import Programs Staff.

[FR Doc. 03-20661 Filed 8-12-03; 8:45 am]

BILLING CODE 3510-DS-P